ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold a public information meeting on beach access routes during its regularly scheduled July meeting of the Board. The regular business meetings shall take place in Arlington, Virginia, Monday through Wednesday, July 21-23, 2008, at the times and location noted below.

DATES: The schedule of events is as follows:

Monday, July 21, 2008

10-Noon Planning and Evaluation Committee.

Noon-1:30 p.m. Presentation on Air Carrier Access Act Regulations.

1:30-2:30 Technical Programs Committee.

2:30-4 Budget Committee.

4-5:30 Presentation on Architectural Barriers Act Complaint Process.

Tuesday, July 22, 2008

10-5 Ad Hoc Committee Meetings (Closed to Public).

Wednesday, July 23, 2008

9-Noon Information Meeting on Beach Access Routes.

Noon-1:30 p.m. Presentation on Airport Common Use Self-Service Machines.

1:30-2:30 Executive Committee.

2:30-3:30 Board Meeting.

ADDRESS: All meetings will be held at The Westin Arlington Gateway Hotel, 801 North Glebe Road, Arlington, VA 22203.

FOR FURTHER INFORMATION CONTACT: For further information regarding the meetings, please contact Lawrence W. Roffee, Executive Director, (202) 272-0001 (voice) and (202) 272-0082 (TTY).

SUPPLEMENTARY INFORMATION: The Access Board will hold a public information meeting on beach access routes to gather additional information to assist in developing final accessibility guidelines. The meeting will consist of short presentations and interactive discussions with state and Federal representatives, advocates, environmentalists, and manufacturers of beach access products. In particular, the Board seeks input on the location of beach access routes, their distance, endpoints, coverage area, and frequency, as well as information on factors or conditions that may impact compliance. For additional information regarding this public information meeting, please contact Bill Botten, Accessibility Specialist, (202) 272-0014 (voice); (202) 272-0082 (TTY); or by e-mail: botten@access-board.gov.

At the Board meeting, the Access Board will consider the following agenda items:

• Approval of the draft April 2008 Board Meeting Minutes.

• ADA/ABA Accessibility Guidelines; Federal Agency Updates.

• Planning and Evaluation Committee Report.

• Technical Programs Committee Report.

• Budget Committee Report.

• Executive Committee Report.

• Telecommunications and Electronic and Information Technology Ad Hoc Committee Report.

• Transportation Vehicles Ad Hoc Committee Report.

• Outdoor Developed Areas Ad Hoc Committee Report.

• Passenger Vessels Ad Hoc Committee Report.

• Emergency Transportable Housing Ad Hoc Committee Report.

• Public Rights-of-Way Ad Hoc Committee Report.

• Airport Terminal Access Ad Hoc Committee Report.

• Accessible Design in Education Ad Hoc Committee Report.

• Election Assistance Commission Report.

All meetings are accessible to persons with disabilities. An assistive listening system, computer assisted real-time transcription (CART), and sign language interpreters will be available at the Board meetings. Persons attending Board meetings are requested to refrain from using perfume, cologne, and other fragrances for the comfort of other participants.

Lawrence W. Roffee,
Executive Director.

[FR Doc. E8-15383 Filed 7-7-08; 8:45 am]

BILLING CODE 8150-01-P